ENVIRONMENTAL PROTECTION AGENCY

[EPA-HQ-OPP-2007- 0086; FRL-8147-7]

Implementation of the Emerging Pathogens and Disinfection Hierarchy for Antimicrobial Products; Notice of Availability; Reopening of Comment Period

AGENCY: Environmental Protection Agency (EPA).

ACTION: Reopening of comment period.

SUMMARY: EPA is reopening the comment period for a notice of availability concerning implementation of the emerging pathogens and disinfection hierarchy guidance for antimicrobial products published in the Federal Register of July 25, 2007. This document reopens the comment period for an additional 60 days. The comment period is reopened because additional time has been requested by several pesticide entities to prepare detailed comments on the planned implementation.

DATES: Comments must be received on or before November 19, 2007.

ADDRESSES: Follow the detailed instructions provided under ADDRESSES in the notice of availability published in the Federal Register of July 25, 2007.

FOR FURTHER INFORMATION CONTACT: Laura Bailey, Antimicrobials Division, Office of Pesticide Programs, Environmental Protection Agency, 1200 Pennsylvania Ave., NW., Washington, DC 20460-0001; telephone number: (703) 308-6212; fax number: (703) 308-6467; e-mail address: bailey.laura@epa.gov.

SUPPLEMENTARY INFORMATION:

I. General Information

A. Does this Action Apply to Me?

The Agency identified in the notice of availability those who may be potentially affected by that action. If you have questions regarding the applicability of this action to a particular entity, consult the person listed under FOR FURTHER INFORMATION CONTACT.

B. How and to Whom Do I Submit Comments?

To submit comments, or access the public docket, follow the detailed instructions provided in the Unit entitled, “ADDRESSES” and the SUPPLEMENTARY INFORMATION of the July 25, 2007 notice of availability.

II. What Action is EPA Taking?

This document reopens the comment period established in a notice published in the Federal Register of July 25, 2007 (72 FR 40879) (FRL-8134-2). In that document, the Agency announced the availability of and solicited comments on the pesticide draft science guidance document entitled “Implementation of the Emerging Pathogens and Disinfection Hierarchy for Antimicrobial Products.” The guidance proposes to utilize an organism hierarchy to identify effective products for use with emerging pathogens and to permit registrants, in accordance with EPA regulations, to make limited label statements regarding product efficacy against such pathogens. The guidance applies to emerging enveloped and non-enveloped viruses and may be implemented after the Centers for Disease Control and Prevention has identified the taxonomic genera of the emerging virus. Limitations, label recommendations and the process for implementation are discussed in detail in the supporting guidance document. The supporting implementation guidance is available in the docket at http://www.regulations.gov, document ID No. EPA-HQ-OPP-2007-0086. EPA is reopening the comment period, which expired on August 24, 2007, for an additional 60 days. The new comment period ends on November 19, 2007.

III. What is the Agency's Authority for Taking this Action?

Provisions are made in the Federal Insecticide, Fungicide, and Rodenticide Act (FIFRA), as amended, to allow a public comment period. However, the Administrator may extend the comment period if additional time for comment is requested. In this case, the Innovation Reform Group (IRG), the American Chemistry Council Biocides Panel (Panel), and the Consumer Specialty Products Association (CSPA) have requested additional time to develop comments. The Agency believes that an additional 60 days is warranted.

List of Subjects

Environmental protection, Pesticide and pests, Disinfection hierarchy, Emerging pathogens, Antimicrobial products.

Dated: September 6, 2007.
Frank Sanders,
Director, Antimicrobials Division, Office of Pesticide Programs.

[FR Doc. E7-18372 Filed 9-18-07; 8:45 am]

BILLING CODE 6560-50-S